DEPARTMENT OF THE INTERIOR

Minerals Management Service (MMS)

Outer Continental Shelf Official Protraction Diagrams

AGENCY: Minerals Management Service, Interior.

ACTION: Status of Outer Continental Shelf Official Protraction Diagrams (OPDs).

SUMMARY: Notice is hereby given that effective with this publication, the following North American Datum of 1983 (NAD 83)-based Outer Continental Shelf OPDs last revised on the date indicated, are on file and available for information only in the Pacific OCS Regional Office, Camarillo, California. In accordance with Title 43, Code of Federal Regulations, these diagrams are the basic record for the description of mineral and oil and gas leases in the geographic areas they represent.

FOR FURTHER INFORMATION CONTACT: Copies of these OPDs may be purchased for $2.00 each from the Public Information Unit, Information Services Section, Pacific OCS Region, Minerals Management Service, 770 Paseo Camarillo, Camarillo, California 93010, Telephone (800) 672-2627.

SUPPLEMENTARY INFORMATION: In addition, OPDs may be obtained in two digital formats: .gra files for use in ARC/INFO and .pdf files for viewing and printing in Acrobat. Copies are also available for download at: http://www.mms.gov/ld/leasing.htm.

Description | Date
NH10-02 (Unnamed) | 13-MAR-1997
NH10-03 Velero Basin | 13-MAR-1997
NH10-05 Jasper Seamount | 31-JUL-1998
NH10-06 Westfall Seamount | 31-JUL-1998
NH11-01 Bushnell Knoll | 01-JUN-2001
NH11-04 The Rampart | 01-JUN-2001
NI09-03 (Unnamed) | 13-MAR-1997
NI10-01 Monterey Fan | 13-MAR-1997
NI10-02 Sur Canyon | 13-MAR-1997
NI10-03 San Luis Obispo | 01-JUN-2001
NI10-04 (Unnamed) | 13-MAR-1997
NI10-05 Arguello Fan | 13-MAR-1997
NI10-06 Santa Maria | 01-JUN-2001
NI10-07 (Unnamed) | 13-MAR-1997
NI10-08 (Unnamed) | 13-MAR-1997
NI10-09 Santa Rosa Island | 01-JUN-2001
NI10-10 (Unnamed) | 13-MAR-1997
NI10-11 (Unnamed) | 13-MAR-1997
NI10-12 Patton Ridge | 13-MAR-1997
NI11-04 Los Angeles | 01-JUN-2001
NI11-07 Long Beach | 01-JUN-2001
NI11-08 Santa Ana | 01-JUN-2001
NI11-10 San Clemente Island | 01-JUN-2001
NI11-11 San Diego | 01-JUN-2001
NJ09-02 (Unnamed) | 13-MAR-1997
NJ09-03 Delgada Fan | 13-MAR-1997
NJ09-05 Pioneer Escarpment | 13-MAR-1997
NJ09-06 Pioneer Ridge | 13-MAR-1997
NJ09-09 (Unnamed) | 13-MAR-1997
NJ09-12 (Unnamed) | 13-AUG-1997
NJ10-01 Noyo Canyon | 01-JUN-2001
NJ10-02 Ukiah | 01-JUN-2001
NJ10-04 Arena Canyon | 13-MAR-1997
NJ10-05 Santa Rosa | 01-JUN-2001
NJ10-07 Bodega Canyon | 13-MAR-1997
NJ10-08 San Francisco | 01-JUN-2001
NJ10-10 Taney Seamount | 13-MAR-1997
NJ10-11 Santa Cruz | 01-JUN-2001
NJ10-12 Monterey | 01-JUN-2001
NK09-02 Cascadia Gap | 13-MAR-1997
NK09-03 Heceta Bank | 13-MAR-1997
NK09-05 President Jackson Seamount | 13-MAR-1997
NK09-06 Blanco Saddle | 13-MAR-1997
NK09-08 Klamath Ridge | 13-MAR-1997
NK09-09 Escanaba Ridge | 13-MAR-1997
NK09-11 Steel Vendor Seamount | 13-MAR-1997
NK09-12 Escanaba Trough | 13-MAR-1997
NK10-01 Coos Bay | 31-JUL-1998
NK10-02 Roseburg | 31-JUL-1998
NK10-04 Cape Blanco | 01-JUN-2001
NK10-07 Crescent City | 01-JUN-2001
NK10-08 Weed | 01-JUN-2001
NK10-10 Eureka | 01-JUN-2001
NK10-11 Redding | 01-JUN-2001
NL09-02 Nitinat Fan | 31-JUL-1998
NL09-03 Cascadia Basin | 31-JUL-1998
NL09-05 Thompson Seamount | 31-JUL-1998
NL09-06 Astoria Canyon | 13-MAR-1997
NL09-08 Vance Seamount | 13-MAR-1997
NL09-09 Astoria Fan | 13-MAR-1997
NL09-11 Parks Seamount | 13-MAR-1997
NL09-12 Daisy Bank | 13-MAR-1997
NL10-01 Copalis Beach West | 31-JUL-1998
NL10-02 Seattle | 31-JUL-1998
NL10-04 Cape Disappointment West | 31-JUL-1998
NL10-05 Hoquiam | 31-JUL-1998
NL10-07 Tillamook Seachannel | 13-MAR-1997
NL10-08 Vancouver | 31-JUL-1998
NL10-10 Newport Valley | 31-JUL-1998
NL10-11 Salem | 31-JUL-1998
NM09-08 Barkley Canyon | 31-JUL-1998
NM10-07 Cape Flattery | 31-JUL-1998

Dated: June 11, 2002.
Thomas A. Readinger,
Associate Director for Offshore Minerals Management.

[FR Doc. 02-16448 Filed 6-28-02; 8:45 am]

BILLING CODE 4310-MR-P